DEPARTMENT OF LABOR

Employment and Training Administration

[TA-W-53,755]

Pillowtex Corporation, New York Design and Sales Office, New York, NY; Notice of Termination of Investigation

Pursuant to section 221 of the Trade Act of 1974, an investigation was initiated on December 10, 2003, in response to a worker petition which was filed on behalf of workers at Pillowtex Corporation, New York Design and Sales Office, New York, New York.

An active certification covering the petitioning group of workers is already in effect (TA-W-52,559A, as amended). Consequently, further investigation in this case would serve no purpose, and the investigation has been terminated.

Signed in Washington, DC this 23rd day of December, 2003.
Elliott S. Kushner,
Certifying Officer, Division of Trade Adjustment Assistance.

[FR Doc. 03-32289 Filed 12-31-03; 8:45 am]

BILLING CODE 4510-30-P